DEPARTMENT OF HEALTH AND HUMAN SERVICES

Public Health Service

National Toxicology Program (NTP); National Institute of Environmental Health Science (NIEHS)

The NTP Center for the Evaluation of Risks to Human Reproduction (CERHR) Announces the Availability of and Requests Public Comments on Two Expert Panel Reports: Expert Panel Report on the Developmental and Reproductive Toxicity of 1-Bromopropane and Expert Panel Report on the Developmental and Reproductive Toxicity of 2-Bromopropane.

Summary

Notice is hereby given of the availability of the Expert Panel Report on the Developmental and Reproductive Toxicity of 1-Bromopropane and the Expert Panel Report on the Developmental and Reproductive Toxicity of 2-Bromopropane. These reports include the summaries and conclusions of the expert panel's evaluation of the scientific data for potential reproductive and/or developmental hazards associated with exposure to 1-bromopropane and 2-bromopropane. The CERHR held this expert panel meeting in December 2001. CERHR is seeking public comment on these reports and additional information about recent, relevant toxicology studies or human exposure.

Availability of Reports

Copies of the two expert panel reports are available electronically on the CERHR Web site (http://cerhr.niehs.nih.gov). To receive a printed copy of either report, please contact the CERHR at P.O. Box 12233, MD EC-32, Research Triangle Park, NC 27709 (mail), (919) 541-3455 (phone), (919) 316-4511 (fax), or shelby@niehs.nih.gov (email).

Request for Public Comments

The CERHR invites public comments on the expert panel reports and input regarding any recent, relevant toxicology data or human exposure information for either chemical. The CERHR asks that all comments and other information be submitted to the CERHR at the address above by [Please insert date 60 days from publication of this notice].

All public comments on these reports received by this date will be reviewed and included in the final NTP-CERHR reports prepared by NTP staff. The NTP-CERHR report for each chemical will include the expert panel report, public comments received on the report, and the NTP brief. The NTP brief will provide the NTP's interpretation of the potential for adverse reproductive and/or developmental effects to humans from exposure to the chemical. The NTP will transmit the NTP-CERHR reports to the appropriate federal and state agencies, the public, and the scientific community.

Background

A 10-member expert panel composed of scientists from state and federal governments, universities, and industry conducted an evaluation of the reproductive and developmental toxicities of 1-bromopropane and 2-bromopropane [Federal Register (Vol. 66, No. 156, pp. 42548-42549, August 13, 2001)]. Public deliberations by the panel took place December 5-7, 2001 at the Hilton Washington-Dulles Hotel in Herndon, Virginia. Following the December meeting, the draft expert panel reports were revised to incorporate the panel's conclusions, and subsequently reviewed by the Bromopropanes Expert Panel, NTP scientists, and CERHR personnel.

1-Bromopropane is used as a solvent for fats, waxes, or resins and as an intermediate in the synthesis of pharmaceuticals, insecticides, quaternary ammonium compounds, flavors, or fragrances. It is also used as a vehicle in spray adhesives and as a cold bath degreaser. 2-Bromopropane is used as an intermediate in the synthesis of pharmaceuticals, dyes, and other compounds; the extent of these uses and associated human exposures is unknown. 2-Bromopropane is also present as a contaminant in 1-bromopropane. Bromopropane are being considered as replacement chemicals for ozone-depleting chemicals such as hydrochlorofluorocarbons and chlorinated solvents.

Additional Information About CERHR

The NTP and the NIEHS established the NTP CERHR in June 1998 [Federal Register (Vol. 63, No. 239, p. 68782, December 1998)].

The purpose of the CERHR is to provide scientifically-based, uniform assessments of the potential for adverse effects on reproduction and development caused by agents to which humans may be exposed. Further information on the CERHR's chemical review process including how to nominate chemicals for evaluation and scientists for the expert registry can be obtained from its Web site (http://cerhr.niehs.nih.gov) or by contacting the CERHR directly (see contact information above).

The CERHR also serves as a resource for information on various environmental exposures and their potential to affect pregnancy and child development. Its Web site (http://cerhr.niehs.nih.gov) has information about common concerns related to fertility, pregnancy and the health of unborn children, and links to other resources for information about public health.

Dated: February 8, 2002.
Samuel H. Wilson,
Deputy Director, National Institute of Environmental Health Sciences.

[FR Doc. 02-5652 Filed 3-7-02; 8:45 am]

BILLING CODE 4140-01-P